DEPARTMENT OF COMMERCE

National Oceanic and Atmospheric Administration

[I.D. 071902D]

Marine Mammals; Permit No. 473-1433-02, Permit No. 662-1345-01, and Permit No. 545-1488-00

AGENCY: National Marine Fisheries Service (NMFS), National Oceanic and Atmospheric Administration (NOAA), Commerce.

ACTION: Receipt of applications to amend permits.

SUMMARY: Notice is hereby given that Janice Straley, Assistant Professor of Marine Biology, University of Southeast Alaska, 1332 Seward Avenue, Sitka, Alaska 99835-9498; Dena Matkin, P.O. Box 22, Gustavus, Alaska 99826; and The North Gulf Oceanic Society, SPWS Bldg., 3776 Lake Avenue, Suite 204, Homer, AK 99603 (Principal Investigator: Craig O. Matkin) have requested to take the following species of marine mammals for scientific research purposes: Steller sea lions (Eumetopias jubatus), humpback whales (Megaptera novaeangliae, minke whales (Balaenoptera acutorostrata), harbor porpoise (Phocoena phocoena), Dall’s porpoise (Phocoinoides dalli), harbor seals (Phoca vitulina), gray whales (Eschrichtius robustus), Pacific white-sided dolphins (Lagenorhynchus obliquidens) and Northern fur seals (Callorhinus ursinus).

The permit holders are each requesting identical annual takes for the above species to collect dead parts and incidentally harass during killer whale predation studies.

DATES: Written or telefaxed comments on the new applications, amendment requests or Environmental Assessment must be received on or before August 26, 2002.

ADDRESSES: The applications, amendment requests and related documents, and the Environmental Assessment are available for review upon written request, by downloading from the internet, or by appointment in the following office(s):

Permits, Conservation and Education Division, Office of Protected Resources, NMFS, 1315 East-West Highway, Room 13705, Silver Spring, MD 20910, (301) 713-2289, or the Division’s web page at www.nmfs.noaa.gov/prot_res/PR1/Permits/pr1permits_review.html; and

Alaska Region, NMFS, P.O. Box 21668, Juneau, AK 99802-1668; phone (907) 586-7221; fax (907) 586-7249.

FOR FURTHER INFORMATION CONTACT: Jill Lewandowski or Trevor Spradlin, 301/713-2289.

SUPPLEMENTARY INFORMATION: The subject permits and amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Applications to Amend Permits

Permit No. 473-1433-02, originally issued to Jan Straley December 12, 1997 (62 FR 67052) and amended on October 7, 1999 and February 16, 2001 (66 FR 11274), authorizes the annual take of humpback whales, killer whales, minke whales, gray whales, and fin whales (B. physalus) by photo-identification. Additionally, the permit authorizes the take of sperm whales (Physeter catodon) by photo-identification and suction cup tagging. The objective of the research is to develop long-term sighting histories of individual whales to assess stock structure, life history parameters, feeding behaviors, social behaviors of feeding populations, and population estimates.

Permit No. 662-1345-01, originally issued to Dena Matkin on May 30, 1997 (62 FR 13368) and amended on June 21, 2002 (67 FR 43283), authorizes the annual take of killer whales and humpback whales by photo-identification. The purpose of the research is to continue long-term, year-round photo-identification work in Southern Alaska to define the population size, structure and range of killer whales, and to obtain identification of photographs of humpback whales opportunistically in conjunction with the killer whale research.

Permit No. 545-1488-00, originally issued to the North Gulf Society (Principal Investigator: Craig Matkin) on April 30, 1999 (64 FR 24592), authorizes the annual take of killer whales by photo-identification, biopsy sampling and incidental harassment. The purposes of the authorized research is to study killer whale population analyses, describe mating systems and social structures in well-known resident pods and analyze blubber samples for contaminants and genetic studies.

NOAA environmental review procedures provide that scientific research permits are generally categorically excluded from the National Environmental Policy Act of 1969 (NEPA; 42 U.S.C. 4321 et seq.) requirements to prepare an environmental assessment (EA) or environmental impact statement (EIS). However, because of the magnitude and intensity of proposed research on Steller sea lions, which is largely related to the recent funding opportunities (see 66 CFR 15842), and the intense public interest in this species, NMFS prepared an EA to consider the scope of Steller sea lion research activities. NMFS has determined that the current applicants’ proposed research activities are consistent with those activities previously considered in the EA which resulted in a finding of no significant impact. The EA has been made available on the Permits, Conservation and Education Division website listed previously.

Concurrent with the publication of this notice in the Federal Register, NMFS is forwarding copies of these applications to the Marine Mammal Commission and its Committee of Scientific Advisors.

Dated: July 19, 2002.
Eugene T. Nitta,
Acting Chief, Permits, Conservation and Education Division, Office of Protected Resources, National Marine Fisheries Service.

[FR Doc. 02-19001 Filed 7-25-02; 8:45 am]

BILLING CODE 3510-22-S